DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Adult Treatment Drug Court Cross-Site Evaluation for the Substance Abuse and Mental Health Services Administration (SAMHSA)—NEW

SAMHSA's Center for Substance Abuse Treatment (CSAT) is responsible for collecting data from 20 recently funded Adult Treatment Drug Court grantees and clients being served by expansion and/or enhancement grants. The main evaluation question is whether the addition of substance abuse treatment resources increases the positive results of drug courts. SAMHSA's CSAT-funded grantees are required to participate in a cross-site evaluation as a contingency of their award. Data on each drug court and their processes will be collected during three annual site visits. Some data will be obtained through courtroom observations; no questionnaire will be administered to collect observational data. Additional data will be collected through interviews with drug court personnel and focus groups and interviews with drug court clients.

CSAT requests approval for administering questionnaires to drug court personnel. CSAT also requests approval for conducting focus groups with drug court clients and administering questionnaires at 6-months post-discharge from the drug court.

Drug Court Team Questionnaire

This questionnaire will be administered to key drug court personnel (e.g., judge, drug court manager and treatment provider) during the three annual site visits to the drug court. This instrument consists of 15 open-ended questions, and will ask respondents about their role and involvement in the drug court process, perceptions of drug courts, and the role of treatment and coercion in drug courts (subject to OMB approval).

Drug Court Client Focus Group Questions for Guided Discussion

Focus groups will be conducted during the annual site visits to each drug court. During the focus groups, drug court clients will be asked 12 open-ended questions about their experiences in the drug court program and current efforts towards recovery. Drug court participants will be involved in focus groups on 1 to 3 occasions.

Procedural Justice Questionnaire

This instrument contains 13 items and asks drug court clients about their perceptions regarding fair treatment by the judge and drug court team during the drug court process. It is hypothesized that participants who perceive the judge and drug court team as fair will be more compliant with the drug court program, more likely to graduate, and have better substance use and criminal behavior outcomes (e.g., reduced substance use, fewer arrests). This questionnaire will be administered to drug court participants once, during the 6-month post-discharge interview.

Correctional Mental Health Screener for Women

A mental health screener for women (CMHS-W) will be administered to gather data on drug court participants' mental health. Many drug court clients have co-occurring disorders (i.e., substance use and mental health disorders). The information gathered during this portion of the in-person drug court client interviews will provide a post-discharge indicator of mental health status and will be used as a moderator variable when assessing client outcomes such as drug use and arrest. This questionnaire will be administered to drug court participants once, during the 6-month post-discharge interview. The CMHS-W contains eight questions, and six items are common between the men and women's versions of the instrument.

Correctional Mental Health Screener for Men

A mental health screener for men (CMHS-M) will be administered to gather data on drug court participants' mental health. Many drug court clients have co-occurring disorders (i.e., substance use and mental health disorders). The information gathered during this portion of the in-person drug court client interviews will provide a post-discharge indicator of mental health status and will be used as a moderator variable when assessing client outcomes such as drug use and arrest. This questionnaire will be administered to drug court participants once, during the 6-month post-discharge interview. The CMHS-M contains twelve questions and the two instruments have six items in common.

Treatment Satisfaction Index

The Treatment Satisfaction Index will ask drug court participants about their satisfaction with treatment received during the drug court program. This 19-item questionnaire will be administered to drug court participants once, during the 6-month post-discharge interview.

The estimated response burden for this data collection is provided in the table below:

Annualized Estimates of Hour Burden
| Number of respondents | Responses per respondent | Total responses | Hours per response | Total hour burden
Drug Court Team Questionnaire | 240 | 3 | 720 | .5 | 120
Drug Court Clients Focus Group Questions for Guided Discussion | 600 | 1 | 600 | 1.0 | 600
Drug Court Clients—Interviews | 816 | 1 | 816 | .5 | 408
Procedural Justice Questionnaire | 816 | 1 | 816 | .09 | 73
Correctional Mental Health Screener—Women | 408 | 1 | 408 | .08 | 33
Correctional Mental Health Screener—Men | 408 | 1 | 408 | .08 | 33
Treatment Satisfaction Index | 816 | 1 | 816 | .08 | 65
Total | 1,656 |  | 2,136 |  | 1,128

The estimates in this table reflect the maximum burden for participation in the Adult Treatment Drug Court Cross-Site Evaluation. Burden for drug court personnel is aggregated to reflect total burden over the three-year study period. The drug court personnel questionnaire will be administered three times; once during each of three study years. Burden for the drug court clients is annualized. Focus groups and interviews are one-time events. Some drug court clients will participate in both a focus group and 6-month post-discharge interview.

Send comments to Summer King, SAMHSA Reports Clearance Officer, Room 7-1044, One Choke Cherry Road, Rockville, MD 20857 and e-mail her a copy at summer.king@samhsa.hhs.gov. Written comments should be received within 60 days of this notice.

Dated: April 13, 2009.
Elaine Parry,
Director, Office of Program Services.

[FR Doc. E9-9072 Filed 4-20-09; 8:45 am]

BILLING CODE 4162-20-P